DEPARTMENT OF COMMERCE

National Oceanic and Atmospheric Administration

RIN 0648-XP39

Mid-Atlantic Fishery Management Council (MAFMC); Public Meetings

AGENCY: National Marine Fisheries Service (NMFS), National Oceanic and

Atmospheric Administration (NOAA), Commerce.

ACTION: Notice of public meetings.

SUMMARY: The Mid-Atlantic Fishery Management Council (Council), its Research Set-Aside Committee (RSA), its Squid, Mackerel, Butterfish Committee (SMB), its Surfclam, Ocean Quahog, and Tilefish Committee, its Ecosystems and Ocean Planning Committee, its Executive Committee, and its Annual Catch Limits (ACL) and Accountability Measures (AM) Committee will hold public meetings.

DATES: The meetings will be held Monday, June 8, 2009 through Thursday, June 11, 2009. See SUPPLEMENTARY INFORMATION for specific dates and times.

ADDRESSES: The meetings will be held at the Radisson Martinique on Broadway, 49 West 32nd Street, New York, NY 10001; telephone: (212) 736-3800.

Council address: Mid-Atlantic Fishery Management Council, 300 S. New St., Room 2115, Dover, DE 19904; telephone: (302) 674-2331.

FOR FURTHER INFORMATION CONTACT: Daniel T. Furlong, Executive Director, Mid-Atlantic Fishery Management Council; telephone: (302) 674-2331 ext. 19.

SUPPLEMENTARY INFORMATION: On Monday, June 8 (in closed session) the RSA Committee will meet with NMFS officials from noon until 3 p.m. The RSA Committee will meet (in open session) NMFS Cooperative Research staff from 3 p.m. until 5 p.m. On Tuesday, June 9, the Squid, Mackerel, Butterfish Committee will meet from 8 a.m. until 11 a.m. The Surfclam, Ocean Quahog, and Tilefish Committee will meet from 11 a.m. until 12:30 p.m. The Ecosystems and Ocean Planning Committee will meet from 1:30 p.m. until 4:30 p.m. A scoping session for Sea Turtle Conservation and Recovery in Relation to the Atlantic Trawl Fisheries will be held from 7 p.m. until 9 p.m. On Wednesday, June 10, the Council will hold its Business Session from 8 a.m. until 9:45 a.m. From 9:45 a.m. until 10:30 a.m., NMFS officials will provide a presentation regarding the agency's Sea Turtle Conservation and Recovery Strategy. From 10:30 a.m. until 12 p.m., the Council will discuss Amendment 11 to Squid, Mackerel, and Butterfish Fishery Management Plan (FMP). From 1 p.m. until 3 p.m., the Council will discuss Amendment 5 to the Monkfish FMP. From 3 p.m. until 4:30 p.m., Squid, Mackerel, and Butterfish Specifications for 2010 will be developed and adopted. From 4:30 p.m. until 5:30 p.m., Surfclam and Ocean Quahog Specifications for 2010 will be developed and adopted. On Thursday, June 11, the Executive Committee will meet from 8 a.m. until 9 a.m. The ACL/AM Committee will meet from 9 a.m. until 10:30 a.m. The Council will convene at 10:30 a.m. to receive a presentation on the New England Council's Essential Fish Habitat (EFH) Omnibus Amendment from 10:30 a.m. until noon. From 1 p.m. until 1:30 p.m., the Council will receive a presentation from Rutgers University Scientists regarding “Developing Ecological Indicators for Spatial Fisheries Management”. NMFS' officials will provide a Marine Debris Program presentation from 1:30 p.m. until 2:30 p.m. From 2:30 p.m. until 4 p.m., the Council will receive Committee Reports and discuss and act on any continuing or new business.

Agenda items by day for the Council's Committees and the Council itself are: Monday, June 8, the RSA Committee with the NMFS' Cooperative Research Staff will hold a closed session to review and comment on 2010 RSA proposals. In open session, the RSA Committee will receive a presentation from the NMFS' Cooperative Research Staff on NMFS' draft Cooperative Research Strategic plan, review and discuss Mid-Atlantic RSA program performance and ways to improve program coordination with other cooperative research efforts, and develop comments as appropriate for Council consideration. On Tuesday, June 9, the Squid, Mackerel, and Butterfish Committee will meet with Advisors to review the Scientific and Statistical Committee's (SSC) advice and Monitoring Committee's recommendations for the 2010 quota levels and associated management measures; develop quota specifications and associated management measures for Council consideration and action; review and address status of Amendment 11; and, review and discuss butterfish bycatch in Hudson Canyon. The Surfclam, Ocean Quahog, and Tilefish Committee will meet with Advisors to review staff recommendations for the 2010 quota specifications and associated management measures for surfclams and ocean quahogs; and, develop quota specifications and associated management measures for Council consideration and action. The Ecosystem and Ocean Planning Committee will meet to review and discuss NMFS' Report to Congress [State of Science to Support an Ecosystem Approach to Regional Fishery Management—MSA Section 406(f)]; receive an update on status of proposed LNG facilities in the Mid-Atlantic Council's jurisdiction off New Jersey/New York; and, receive an overview of NMFS' role and responsibilities regarding non-fishery uses of the ocean. An evening scoping session for Sea Turtle Conservation and Recovery in Relation to the Atlantic Trawl Fisheries will be held. On Wednesday, June 10, the Council will convene to conduct its regular Business Session, receive Organizational, Council Liaison, Executive Director Reports, and receive a report on the status of MAFMC's FMPs. A presentation will be provided by NMFS officials on Sea Turtle Strategy and Potential Impacts on Mid-Atlantic Fisheries. The Council will review alternatives associated with the proposed management measures and select preferred alternatives for Amendment 11 to the Squid, Mackerel, and Butterfish FMP. The Council will also review and adopt the Public Hearing Document (PHD) and associated Draft Environmental Impact Statement (DEIS) regarding Amendment 11. The Council will review the Monkfish Advisory Panel, Oversight Committee, and the SSC recommendations, and identify measures to be developed and considered in the DEIS for Amendment 5 to the Monkfish FMP. The Council will review the SMB Committee's recommendations for 2010 quota specifications and associated management measures, and develop and adopt 2010 quota specifications and associated management measures for Atlantic mackerel, squids, and butterfish. The Council will review the Surfclam and Ocean Quahog Committee's recommendations for 2010 quota specifications (year 3 of the existing 2008-10 multi-year quota specifications) and associated management measures, and, as appropriate, adopt any changes to the 2010 quota specifications. On Thursday June 11, the Executive Committee will meet to review highlights of the May 2009 Council Coordination Committee (CCC) meeting, review and discuss proposed rules for Marine Protected Areas (MPA) designations and Council operations Statement of Operating Practices and Procedures (SOPP), and consider scheduling a one-day meeting to address ACL/AM options. The ACL /AM Committee will review comments received during the current scoping period, and discuss possible additions, deletions, or modifications to description of alternatives to be considered in the Omnibus Amendment based on comments received. The Council will then receive a presentation by a New England Council official regarding its Essential Fish Habitat (EFH) Omnibus Amendment and potential impact on Mid-Atlantic Fisheries. The Council will receive a presentation by Rutgers University Scientists regarding “Developing Ecological Indicators for Spatial Fisheries Management” and a presentation by a NMFS' official regarding its Marine Debris Program. The Council will then hear Committee Reports and conduct any continuing and new business.

Although non-emergency issues not contained in this agenda may come before the Council for discussion, these issues may not be the subject of formal Council action during this meeting. Council action will be restricted to those issues specifically listed in this notice and any issues arising after publication of this notice that require emergency action under Section 305(c) of the Magnuson-Stevens Act, provided the public has been notified of the Council's intent to take final action to address such emergencies.

Special Accommodations

This meeting is physically accessible to people with disabilities. Requests for sign language interpretation or other auxiliary aid should be directed to M. Jan Bryan, (302) 674-2331 ext 18, at least 5 days prior to the meeting date.

Dated: May 19, 2009.
Tracey L. Thompson,
Acting Director, Office of Sustainable Fisheries, National Marine Fisheries Service.

[FR Doc. E9-12027 Filed 5-21-09; 8:45 am]

BILLING CODE 3510-22-S